DEPARTMENT OF JUSTICE

Notice of Lodging of Settlement Agreement Under the Comprehensive Environmental Response, Compensation, and Liability Act (CERCLA)

Notice is hereby given that on June 2, 2008, a proposed Settlement Agreement in the case of In re ASARCO LLC, et al., No. 05-21207, Chapter 11, regarding the Iron Mountain Site located in Mineral County, Montana, near the Town of Superior, Montana, was lodged with the United States Bankruptcy Court for the Southern District of Texas.

The United States, on behalf of the Forest Service, and the Montana Department of Environmental Quality (DEQ) alleged that they incurred past response costs, and will incur future response costs, under CERCLA in connection with the Site for which ASARCO LLC is liable. The Settlement Agreement for the Iron Mountain Site would provide a $500,000 unsecured claim for the Forest Service and a $1.7 million unsecured claim for the State of Montana. In addition, ASARCO LLC would agree to negotiate an Administrative Order on Consent with the Montana DEQ for the investigation and analysis of remedial options and to implement the remedy for portions of the Iron Mountain Site currently owned by ASARCO LLC.

For thirty (30) days after the date of this publication, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, the comments should refer to In re ASARCO LLC, et al., Iron Mountain Site, D.J. Ref. No. 90-11-3-09141.

During the comment period, the Settlement Agreement may be examined on the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-13637 Filed 6-16-08; 8:45 am]

BILLING CODE 4410-15-P